AGENCY FOR INTERNATIONAL DEVELOPMENT

Agency Information Collection Activity; Submission to the Office of Management and Budget for Review and Approval; Comment Request; Title II Vegetable Oil Packaging Survey

AGENCY: Office of Food for Peace (FFP), United States Agency for International Development (USAID) .

ACTION: Availability of survey.

SUMMARY: The U.S. Agency for International Development (USAID) is issuing a survey on Food for Peace (FFP) Title II vegetable oil packaging to collect information on the quality and condition of vegetable oil packaging and what problems or challenges should be prioritized and addressed. Data collected from the survey will be compiled and shared with survey participants and be used to make improvements to Title II vegetable oil.

DATES: Comments are due by February 14, 2020.

ADDRESSES: Interested persons are invited to submit comments regarding the proposed information collection to Angela Roberts, USAID, Bureau for Democracy, Conflict & Humanitarian Assistance, Office of Food for Peace at angroberts@usaid.gov.

FOR FURTHER INFORMATION CONTACT: Angela Roberts, 703-775-6140, angroberts@usaid.gov.

Greg Olson,
Food for Peace Program Operations Division Chief.

[FR Doc. 2019-27026 Filed 12-13-19; 8:45 am]

BILLING CODE 6116-01-P